DEPARTMENT OF COMMERCE

Foreign-Trade Zones Board

[B-6-2013]

Foreign-Trade Zone 22—Chicago, IL, Notification of Proposed Production Activity, Panasonic Corporation of North America, (Kitting of Consumer Electronics), Aurora, IL

The Illinois International Port District, grantee of FTZ 22, submitted a notification of proposed production activity on behalf of Panasonic Corporation of North America (PNA), located in Aurora, Illinois. The notification conforming to the requirements of the regulations of the Board (15 CFR 400.22) was received on January 11, 2013.

The PNA facility is located within Site 28 of FTZ 22. The facility is used for the kitting of consumer electronics parts into retail packages. Pursuant to 15 CFR 400.14(b)4 of the regulations, FTZ activity would be limited to the specific foreign-status materials and components and specific finished products described in the submitted notification (as described below) and subsequently authorized by the FTZ Board.

Production under FTZ procedures could exempt PNA from customs duty payments on the foreign status components used in export production. On its domestic sales, PNA would be able to choose the duty rates during customs entry procedures that apply to camera kits, digital cameras with lenses, digital cameras with memory cards, home theater systems and camera systems (duty rate ranges from duty-free to 2.1%) for the foreign status inputs noted below. Customs duties also could possibly be deferred or reduced on foreign status production equipment.

The components and materials sourced from abroad include: SD cards, leather camera cases, digital still cameras, camera lenses, home theater systems, HDMI cables, quick start guides and dome enclosures (duty rate ranges from duty-free to 4.5%).

Public comment is invited from interested parties. Submissions shall be addressed to the Board's Executive Secretary at the address below. The closing period for their receipt is March 11, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: January 22, 2013.
Andrew McGilvray,
Executive Secretary.

[FR Doc. 2013-01697 Filed 1-25-13; 8:45 am]

BILLING CODE P